DEPARTMENT OF ENERGY

Federal Energy Regulatory Commission

Combined Notice of Filings #1

Take notice that the Commission received the following electric rate filings:

Docket Numbers: ER10-2633-022; ER10-2570-022; ER10-2717-022; ER10-3140-021;ER13-55-012.

Applicants: Birchwood Power Partners, L.P., Shady Hills Power Company, L.L.C., EFS Parlin Holdings, LLC, Inland Empire Energy Center, LLC, Homer City Generation, L.P.

Description: Notice of Non-Material Change in Status of the GE Companies.

Filed Date: 12/8/15.

Accession Number: 20151208-5217.

Comments Due: 5 p.m. ET 12/29/15.

Docket Numbers: ER15-192-002.

Applicants: Arizona Public Service Company.

Description: Compliance filing: Service Agreement Nos. 338, 339, 349, 350, 351 and 352 to be effective 11/9/2015.

Filed Date: 12/9/15.

Accession Number: 20151209-5109.

Comments Due: 5 p.m. ET 12/30/15.

Docket Numbers: ER16-483-000.

Applicants: Southwest Power Pool, Inc.

Description: § 205(d) Rate Filing: Bylaws Section 6.2 Revisions to Expand the Strategic Planning Committee to be effective 2/7/2016.

Filed Date: 12/9/15.

Accession Number: 20151209-5031.

Comments Due: 5 p.m. ET 12/30/15.

Docket Numbers: ER16-484-000.

Applicants: CenterPoint Energy Houston Electric, LLC.

Description: § 205(d) Rate Filing: TFO Tariff Interim Rate Revision to Conform with PUCT-Approved ERCOT Rate to be effective 11/23/2015.

Filed Date: 12/9/15.

Accession Number: 20151209-5041.

Comments Due: 5 p.m. ET 12/30/15.

Docket Numbers: ER16-485-000.

Applicants: Golden Hills Interconnection, LLC.

Description: Baseline eTariff Filing: Golden Hills Interconnection SFA with Golden Hills, and Golden Hills North to be effective 12/10/2015.

Filed Date: 12/9/15.

Accession Number: 20151209-5072.

Comments Due: 5 p.m. ET 12/30/15.

Docket Numbers: ER16-486-000.

Applicants: Credit Suisse Energy, LLC.

Description: Tariff Cancellation: Notice of Cancellation of Market-Based Rate Tariff to be effective 12/31/2015.

Filed Date: 12/9/15.

Accession Number: 20151209-5101.

Comments Due: 5 p.m. ET 12/30/15.

Docket Numbers: ER16-487-000.

Applicants: Pacific Gas and Electric Company.

Description: § 205(d) Rate Filing: Transmission Access Charge Balancing Account Adjustment (TACBAA) 2016 to be effective 3/1/2016.

Filed Date: 12/9/15.

Accession Number: 20151209-5105.

Comments Due: 5 p.m. ET 12/30/15.

Docket Numbers: ER16-488-000.

Applicants: PJM Interconnection, L.L.C.

Description: § 205(d) Rate Filing: Revise PJM-MISO JOA section 9.4 re: Interregional Market Eff. Project Criteria to be effective 2/8/2016.

Filed Date: 12/9/15.

Accession Number: 20151209-5107.

Comments Due: 5 p.m. ET 12/30/15.

Docket Numbers: ER16-489-000.

Applicants: PJM Interconnection, L.L.C.

Description: § 205(d) Rate Filing: SA No. 4311, First Revised SA No. 4218 and Cancellation of SA No. 4180 to be effective 11/9/2015.

Filed Date: 12/9/15.

Accession Number: 20151209-5110.

Comments Due: 5 p.m. ET 12/30/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2015.
Nathaniel J. Davis, Sr.,
Deputy Secretary.

[FR Doc. 2015-31466 Filed 12-14-15; 8:45 am]

BILLING CODE 6717-01-P